DEPARTMENT OF JUSTICE

[AAG/A Order No. 223-2001]

Privacy Act of 1974; Systems of Records

Pursuant to the provisions of the Privacy Act of 1974, 5 U.S.C. 552a, notice is given that the Department of Justice proposes to modify the following systems of records:

ATR-006 Antitrust Information Management System (AMIS)—Matter Report | 2-20-98 | 63 FR 8660.
CIV-001 Civil Division Case File System | 2-20-98 | 63 FR 8665.
CRM-001 Central Criminal Division Index File and Associated Records | 2-20-98 | 63 FR 8663.
CRM-012 Organized Crime and Racketeering Section, General Index File and Associated Records | 11-26-90 | 55 FR 49147.
CRT-001 Central Civil Rights Division Index File and Associated Records | 2-20-98 | 63 FR 8661.
FBI-002 The FBI Central Records System | 2-20-98 | 63 FR 8671.
TAX-001 Tax Division Central Classification Cards, Index Docket Cards, and Associated Records—Criminal Tax Cases | 2-20-98 | 63 FR 8684.
TAX-002 Tax Division Central Classification Cards, Index Docket Cards, and Associated Records—Civil Tax Cases | 2-20-98 | 63 FR 8685.
USA-005 Civil Case Files | 2-20-98 | 63 FR 8666.
USA-007 Criminal Case Files | 12-21-99 | 64 FR 71499.

The Department has modified the above systems of records to include a new routine use that allows disclosure of information relating to health care fraud to private health plans, associations of private health plans, health insurers, and associations of health insurers, for the following purposes: To promote the coordination of efforts to prevent, detect, investigate, and prosecute health care fraud; to assist victims of such fraud to obtain restitution; to enable private health plans to participate in health care fraud task force activities; and to assist tribunals having jurisdiction over claims against private health plans. It should be noted that with regard to taxpayer information, the addition of this routine use is not intended to affect the confidentiality of such taxpayer information as provided for in 26 U.S.C. 6103.

In accordance with 5 U.S.C. 552a(e)(4) and (11), the public is given a 30-day period in which to comment; and the Office of Management and Budget (OMB), which has oversight responsibility under the Privacy Act, requires a 40-day period in which to conclude its review of the system. Therefore, please submit any comments by [30 days after publication in the Federal Register]. The public, OMB, and the Congress are invited to submit any comments to Mary E. Cahill, Management and Planning Staff, Justice Management Division, United States Department of Justice, Washington, DC 20530-0001 (Room 1400, National Place Building).

A description of the modification to the Department's systems of records is provided below. In accordance with 5 U.S.C. 552a(r), the Department has provided a report to OMB and the Congress.

Dated: March 19, 2001.
Stephen R. Colgate,
Assistant Attorney General for Administration.

DOJ Privacy Act Systems of Records

ATR-006 Antitrust Information Management System (AMIS)—Matter Report.

CIV-001 Civil Division Case File System.

CRM-001 Central Criminal Division Index File and Associated Records.

CRM-012 Organized Crime and Racketeering Section, General Index File and Associated Records.

CRT-001 Central Civil Rights Division Index File and Associated Records.

FBI-002 The FBI Central Records System.

TAX-001 Tax Division Central Classification Cards, Index Docket Cards, and Associated Records—Criminal Tax Cases.

TAX-002 Tax Division Central Classification Cards, Index Docket Cards, and Associated Records—Civil Tax Cases.

USA-005 Civil Case Files.

USA-007 Criminal Case Files.

* * * * *

Routine Uses of Records Maintained in the System, Including Categories of Users and the Purposes of Such Uses:

Information relating to health care fraud may be disclosed to private health plans, or associations of private health plans, and health insurers, or associations of health insurers, for the following purposes: to promote the coordination of efforts to prevent, detect, investigate, and prosecute health care fraud; to assist efforts by victims of health care fraud to obtain restitution; to enable private health plans to participate in local, regional, and national health care fraud task force activities; and to assist tribunals having jurisdiction over claims against private health plans.

* * * * *

[FR Doc. 01-7676 Filed 3-28-01; 8:45 am]

BILLING CODE 4410-14-M